DEPARTMENT OF COMMERCE

National Oceanic and Atmospheric Administration

[RTID 0648-XR109]

Endangered Species; File No. 20528

AGENCY: National Marine Fisheries Service (NMFS), National Oceanic and Atmospheric Administration (NOAA), Commerce.

ACTION: Notice; receipt of application for a permit modification.

SUMMARY: Notice is hereby given that the South Carolina Department of Natural Resources, 217 Fort Johnson Road, Charleston, SC 29412 (Responsible Party: Bill Post), has requested a modification to scientific research Permit No. 20528-01.

DATES: Written, telefaxed, or email comments must be received on or before May 14, 2020.

ADDRESSES: The modification request and related documents are available for review by selecting “Records Open for Public Comment” from the Features box on the Applications and Permits for Protected Species (APPS) home page, https://apps.nmfs.noaa.gov, and then selecting File No. 20528-06 from the list of available applications. These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Malcolm Mohead, (301) 427-8401.

SUPPLEMENTARY INFORMATION: The subject modification to Permit No. 20528-01, issued on April 16, 2019 (84 FR 15595), is requested under the authority of the Endangered Species Act of 1973, as amended (16 U.S.C. 1531 et seq.) and the regulations governing the taking, importing, and exporting of endangered and threatened species (50 CFR parts 222-226).

Permit No. 20528-01 authorizes the permit holder to conduct research on Atlantic and shortnose sturgeon to determine their presence, status, health, habitat use, and movements in South Carolina waters. Researchers may use gill nets to capture Atlantic and shortnose sturgeon to measure, weigh, passive integrated transponder (PIT) tag, tissue sample, and photograph prior to release. A subset of individuals may be acoustically tagged, fin ray sampled, and gonadal biopsied. Early life stages of each species may be lethally sampled to document occurrence of spawning in systems. Up to two sturgeon of each species may unintentionally die annually during sampling activities. The permit holder requests authorization to expand research beyond the Waccamaw River to include Winyah Bay, its tributaries, and the contiguous channels of the Intracoastal Waterway. The permit holder requests authorization to, within the Winyah Bay system, (1) increase the number of juvenile Atlantic sturgeon that may be taken from 150 to 500, annually, (2) acoustically tag 10 juvenile Atlantic and shortnose sturgeon, annually, prior to release, (3) increase the number of juvenile shortnose sturgeon that may be taken from 50 to 100, annually, (4) capture, biologically sample, PIT tag, weigh, measure, and photograph/video 200 adult/subadult Atlantic sturgeon and 50 adult/subadult shortnose sturgeon, annually, and (5) collect 50 early life stages of Atlantic and shortnose sturgeon in the Great Pee Dee River, annually. The permit holder also requests to collect up to 50 early life stages of shortnose sturgeon in both the Santee River and Lakes Marion and Moultrie, annually. The permit expires March 31, 2027.

Dated: April 9, 2020.
Julia Marie Harrison,
Chief, Permits and Conservation Division, Office of Protected Resources, National Marine Fisheries Service.

[FR Doc. 2020-07828 Filed 4-13-20; 8:45 am]

BILLING CODE 3510-22-P